DEPARTMENT OF THE TREASURY

Submission for OMB Review; Comment Request

December 14, 2016.

The Department of the Treasury will submit the following information collection requests to the Office of Management and Budget (OMB) for review and clearance in accordance with the Paperwork Reduction Act of 1995, Public Law 104-13, on or after the date of publication of this notice.

DATES: Comments should be received on or before January 18, 2017 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Internal Revenue Service (IRS)

OMB Control Number: 1545-1038.

Type of Review: Extension without change of a currently approved collection.

Title: Annual Certification of a Qualified Residential Rental Project.

Form: 8703

Abstract: Operators of qualified residential projects will use this form to certify annually that their projects meet the requirements of IRC section 142(d). Operators are required to file this certification under section 142(d)(7). Operators must indicate on the form the specific “set-aside” test the bond issuer elected under 26 U.S.C. Section 142(d) for the project period. They must also indicate the percentage of low-income units in the residential rental project.

Affected Public: Businesses or other for-profits.

Estimated Total Annual Burden Hours: 76,620.

OMB Control Number: 1545-1592.

Type of Review: Extension without change of a currently approved collection.

Title: Exception from the information reporting requirements in § 6045(e).

Abstract: This revenue procedure supersedes Rev. Proc. 98-20, 98-1 C.B. 549, and provides the written assurances that are acceptable to the Service for exempting a real estate reporting person from information reporting requirements for the sale of a principal residence under section 6045(e)5) of the Internal Revenue Code.

Affected Public: Individuals or Households.

Estimated Total Annual Burden Hours: 420,500.

OMB Control Number: 1545-1684.

Type of Review: Extension without change of a currently approved collection.

Title: Pre-Filing Agreements Program.

Abstract: This revenue procedure permits a taxpayer under the jurisdiction of the Large Business and International Division (LB&I) to request that the Service examine specific issues relating to tax returns before those returns are filed. This revenue procedure modifies and supersedes Rev. Proc. 2009-14, 2009-3 I.R.B. 324. This revenue procedure provides the framework within which a taxpayer and the Service may work together in a cooperative environment to resolve, after examination, issues accepted into the program.

Affected Public: Businesses or other for-profits.

Estimated Total Annual Burden Hours: 13,134.

OMB Control Number: 1545-1708.

Type of Review: Extension without change of a currently approved collection.

Title: Handbook for Authorized IRS e-file Providers.

Abstract: Publication 1345 provides important information for Authorized IRS e-file Providers of Individual Income Tax Returns, including information regarding return submission, record keeping requirements, payment options, and refunds.

Affected Public: Businesses or other for-profits.

Estimated Total Annual Burden Hours: 6,023,762.

OMB Control Number: 1545-1734.

Type of Review: Extension without change of a currently approved collection.

Title: Terminal Operator Report.

Form: 720-TO

Abstract: Representatives of the motor fuel industry, state governments, and the Federal government are working to ensure compliance with excise taxes on motor fuels. This joint effort has resulted in a system to track the movement of all products to and from terminals. Form 720-TO is an information return that will be used by terminal operators to report their monthly receipts and disbursements of products.

Affected Public: Businesses or other for-profits.

Estimated Total Annual Burden Hours: 2,347,020.

OMB Control Number: 1545-1875.

Type of Review: Extension without change of a currently approved collection.

Title: Guidance on how a state elects a health program for HCTC.

Abstract: Revenue Procedure 2004-12 informs states how to elect a health program to be qualified health insurance for purposes of the health coverage tax credit (HCTC) under section 35 of the Internal Revenue Code. The collection of information is voluntary. However, if a state does not make an election, eligible residents of the state may be impeded in their efforts to claim the HCTC.

Affected Public: State, Local, and Tribal Governments.

Estimated Total Annual Burden Hours: 26.

OMB Control Number: 1545-2079.

Type of Review: Extension without change of a currently approved collection.

Title: Disclosure by taxable party to the tax-exempt entity.

Abstract: This document contains final regulations that provide guidance under section 4965 of the Internal Revenue Code (Code), relating to excise taxes with respect to prohibited tax shelter transactions to which tax-exempt entities are parties, and sections 6033(a)(2) and 6011(g) of the Code, relating to certain disclosure obligations with respect to such transactions.

Affected Public: Businesses or other for-profits.

Estimated Total Annual Burden Hours: 98,500.

Bob Faber,
Acting Treasury PRA Clearance Officer.

[FR Doc. 2016-30404 Filed 12-16-16; 8:45 am]

BILLING CODE 4830-01-P